DEPARTMENT OF THE TREASURY

Submission for OMB Review; Comment Request

March 23, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 1, 2006 to be assured of consideration.

Financial Management Service

OMB Number: 1510-0067.

Type of Review: Extension.

Title: Resolution Authorizing Execution of Depositary, Financial Agency and Collateral Agreement, and Depositary Financial Agency, and Collateral Agreement.

Form: FMS form 5902 and 5903.

Description: Financial Institutions are required to complete an Agreement and Resolution to become a depositary of the Government. The approved application designates the depositary as an authorized recipient of deposits of public money.

Respondents: Business or other for-profit.

Estimated Total Burden Hours: 7.5 hours.

Clearance Officer: Jiovannah Diggs (202) 874-7662, Financial Management Service, Room 144, 3700 East West Highway, Hyattsville, MD 20782.

OMB Reviewer: Alexander T. Hunt (202) 395-7316, Office of Management and Budget, Room 10235, New Executive Office Building, Washington, DC 20503.

Michael A. Robinson,
Treasury PRA Clearance Officer.

[FR Doc. E6-4628 Filed 3-29-06; 8:45 am]

BILLING CODE 4810-35-P